DEPARTMENT OF AGRICULTURE

Food and Nutrition Service

Agency Information Collection Activities: Proposed Collection; Comment Request—Food Stamp Program Repayment Demand and Program Disqualification

AGENCY: Food and Nutrition Service, USDA.

ACTION: Notice.

SUMMARY: In accordance with the Paperwork Reduction Act of 1995, this Notice invites the general public and other public agencies to comment on proposed information collections. This Notice of Proposed Information Collection announces the intent of the Food and Nutrition Service to request an extension of OMB approval for the information collection requirements associated with initiating collection actions against households who have received an overissuance in the Food Stamp Program. In addition, this Notice announces the Food and Nutrition Service's intent to request an extension of OMB approval for the information collection requirements associated with intentional Program violation determinations.

DATES: Written comments must be submitted on or before January 3, 2005, to be assured consideration.

ADDRESSES: Send comments to Jane Duffield, Chief, Payment Accuracy Branch, Food and Nutrition Service, USDA, 3101 Park Center Drive, Room 822, Alexandria, Virginia 22302.

Pursuant to the Paperwork Reduction Act of 1995 (44 U.S.C. 3507), comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All comments will be summarized and included in the request for Office of Management and Budget approval of the information collection. All comments will become a matter of public record.

FOR FURTHER INFORMATION CONTACT: For initiating collection action, contact Leslie Byrd. For intentional Program violation (IPV) determination, contact Greg Fortine. Both may be reached at (703) 305-2383.

SUPPLEMENTARY INFORMATION: Title: Repayment Demand and Program Disqualification.

OMB Number: 0584-0492.

Form Number: None.

Expiration Date: November 30, 2004.

Type of Request: Revision of a currently approved collection.

Abstract: Section 13(b) of the Food Stamp Act of 1977, as amended (7 U.S.C. 2022(b)), and Food Stamp Program (FSP) regulations at 7 CFR 273.18 require State agencies to initiate collection action against households that have been overissued benefits. To initiate collection action, State agencies must provide an affected household with written notification informing the household of the claim and demanding repayment. This process is automated in most State agencies. For initiating collection action on an overissuance, we are increasing the estimated annual reporting and recordkeeping burden for State agencies and households from 116,400 hours to 132,199 hours. The reason for the increase is to reflect the higher number of claims that were established in fiscal year (FY) 2003.

Note that for recipient claims, this Federal Register notice only covers the reporting and recordkeeping burden for initiating collection action. The burden associated with reporting collections and other claims management information on the FNS-209 report is covered under currently approved OMB number 0584-0069. The burden associated with referring delinquent claims and receiving collections through the Treasury Offset Program is covered under currently approved OMB number 0584-0446.

FSP regulations at 7 CFR 273.16 require State agencies to investigate any case of suspected fraud and, where applicable, make an IPV determination either administratively or judicially. Notifications and activity involved in the IPV process include:

• The State agency providing written notification informing an individual suspected of committing an IPV of an impending administrative disqualification hearing or court action.

• An individual opting to accept the disqualification and waiving the right to an administrative disqualification hearing or court action by signing either a waiver to an administrative disqualification hearing or a disqualification consent agreement in cases of deferred adjudication.

• Once a determination is made regarding an IPV, the State agency sends notification to the affected individual of the action taken on the administrative disqualification hearing or court decision.

Despite an increase in FSP participation, IPV activity has experienced a slight decline. Therefore, we are decreasing the State agency and household annual reporting and recordkeeping burden for the activities related to IPV disqualifications from 34,254 hours to 26,712 hours.

One of the factors used by a State agency to determine the appropriate disqualification penalty to assign to an individual is whether or not the individual was found to have committed any prior IPVs. The way that State agencies make this determination is by accessing and checking the Disqualified Recipient Subsystem (DRS). DRS is an automated system developed by the Food and Nutrition Service to improve Program efficiency. DRS contains records of disqualifications in every State. State agencies are responsible for updating the system and checking it to determine the appropriate length of each disqualification. An estimate of the annual burden associated with the DRS process reflects a decrease from 11,907 to 7,418 hours per year.

Summary of Estimated Burden

The net aggregate change from the existing to the proposed annual burden for this entire Proposed Collection is an increase of 3,769 hours. For initiating collection action on an overissuance, we are increasing the estimated annual burden for State agencies and households from 116,400 hours to 132,199 hours to reflect the higher number of claims established in FY 2003. The IPV—related State agency and household annual burden, is decreased from 34,254 hours to 26,712 hours to reflect the lower number of disqualifications. An estimate of the annual burden associated with the DRS process reflects a total decrease from 11,907 to 7,418 hours per year.

Affected Public: State and local government, and food stamp households.

Estimated Number of Respondents: 818,668.

Number of Responses per Respondent: From 1 to 5.

Total Number of Annual Responses: 1,600,981.

Estimated Time per Response: 0.1074 hours.

Estimated Total Annual Burden: 166,329 hours.

Dated: October 27, 2004.
Roberto Salazar,
Administrator, Food and Nutrition Service.

BILLING CODE 3410-30-P

[FR Doc. 04-24405 Filed 11-1-04; 8:45 am]

BILLING CODE 3410-30-C